DEPARTMENT OF TRANSPORTATION

Federal Aviation Administration

14 CFR Part 39

[Docket No. 2002-NM-118-AD; Amendment 39-13463; AD 2004-03-19]

RIN 2120-AA64

Airworthiness Directives; Airbus Model A320-111, -211, and -231 Series Airplanes

AGENCY: Federal Aviation Administration, DOT.

ACTION: Final rule.

SUMMARY: This amendment supersedes an existing airworthiness directive (AD), applicable to certain Airbus Model A320-111, -211, and -231 series airplanes, that currently requires repetitive inspections for cracking in the transition and pick-up angles in the lower part of the center fuselage area, and corrective action if necessary. That AD also provides for an optional terminating modification for the repetitive inspection requirements. This amendment reduces the compliance time for the inspections for cracking of the same area. The actions specified by this AD are intended to detect and correct fatigue cracking in the transition and pick-up angles of the lower part of the center fuselage, which could result in reduced structural integrity of the wing-fuselage support and fuselage pressure vessel. This action is intended to address the identified unsafe condition.

DATES: Effective March 15, 2004.

The incorporation by reference of certain publications, as listed in the regulations, is approved by the Director of the Federal Register as of March 15, 2004.

The incorporation by reference of certain other publications, as listed in the regulations, was approved previously by the Director of the Federal Register as of July 14, 1998 (63 FR 31345, June 9, 1998).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue SW., Renton, Washington 98055-4056; telephone (425) 227-2125; fax (425) 227-1149.

SUPPLEMENTARY INFORMATION: A proposal to amend part 39 of the Federal Aviation Regulations (14 CFR part 39) by superseding AD 98-12-18, amendment 39-10573 (63 FR 31345, June 9, 1998), which is applicable to certain Airbus Model A320-111, -211, and -231 series airplanes, was published in the Federal Register on November 18, 2003 (68 FR 65008). The action proposed to continue to require repetitive inspections for cracking in the transition and pick-up angles in the lower part of the center fuselage area, and corrective action if necessary. The action also provides for an optional terminating modification for the repetitive inspection requirements. The new action proposed to reduce the compliance time for the inspections for cracking of the same area.

Comments

Interested persons have been afforded an opportunity to participate in the making of this amendment. No comments were submitted in response to the proposal or the FAA's determination of the cost to the public.

Conclusion

The FAA has determined that air safety and the public interest require the adoption of the rule as proposed.

Cost Impact

There are approximately 24 airplanes of U.S. registry that will be affected by this AD. The new requirements of this AD add no additional economic burden. The current costs for this AD are repeated for the convenience of affected operators, as follows:

The inspections that are currently required by AD 98-12-18, and retained in this AD, take about 9 work hours per airplane to accomplish, at an average labor rate of $65 per work hour. Based on these figures, the cost impact of the currently required actions on U.S. operators is estimated to be $14,040, or $585 per airplane, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

If an operator chooses to do the optional terminating modification rather than continue the repetitive inspections, it will take between 5 and 10 work hours per airplane to accomplish the modification, at an average labor rate of $65 per work hour. Required parts will cost between $1,077 and $1,837 per airplane. Based on these figures, the cost impact of the modification is estimated to be between $1,402 and $2,487 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10573 (63 FR 31345, June 9, 1998), and by adding a new airworthiness directive (AD), amendment 39-13463, to read as follows:

2004-03-19 Airbus: Amendment 39-13463. Docket 2002-NM-118-AD. Supersedes AD 98-12-18, Amendment 39-10573.

Applicability: Model A320-111, -211, and -231 series airplanes; certificated in any category; as listed in Airbus Service Bulletin A320-53-1027, Revision 03, dated February 12, 2002; or Airbus Service Bulletin A320-53-1028, Revision 01, dated February 12, 2002.

Compliance: Required as indicated, unless accomplished previously.

To detect and correct fatigue cracking in the transition and pick-up angles of the lower part of the center fuselage, which could result in reduced structural integrity of the wing-fuselage support and fuselage pressure vessel, accomplish the following:

Restatement of Requirements of AD 98-12-18

Repetitive Inspections/Corrective Actions/Modification

(a) Prior to the accumulation of 16,000 total landings, or within 6 months after July 14, 1998 (the effective date of AD 98-12-18, amendment 39-10573), whichever occurs later, accomplish paragraphs (a)(1) and (a)(2) of this AD, in accordance with Airbus Service Bulletin A320-53-1028, dated March 1, 1994.

(1) Perform a detailed inspection to detect cracks of the transition angle, in accordance with the service bulletin.

(i) If no crack is detected during the detailed inspection required by paragraph (a)(1) of this AD, accomplish either paragraph (a)(1)(i)(A) or paragraph (a)(1)(i)(B) of this AD.

(A) Repeat the detailed inspection thereafter at intervals not to exceed 12,000 landings. Or

(B) Prior to further flight, modify the center fuselage in accordance with Airbus Service Bulletin A320-53-1027, Revision 2, dated June 8, 1995. Accomplishment of the modification constitutes terminating action for the repetitive inspection requirements of paragraph (a)(1)(i)(A) of this AD.

(ii) If any crack is detected during the detailed inspection required by paragraph (a)(1) of this AD, prior to further flight, replace the transition angle with a new transition angle, in accordance with Airbus Service Bulletin A320-53-1027, Revision 2, dated June 8, 1995.

(2) Perform a rotating probe inspection to detect cracks of the pick-up angle, in accordance with the service bulletin.

(i) If no crack is detected during the rotating probe inspection required by paragraph (a)(2) of this AD, accomplish either paragraph (a)(2)(i)(A) or (a)(2)(i)(B) of this AD.

(A) Repeat the rotating probe inspection thereafter at intervals not to exceed 12,000 landings. Or

(B) Prior to further flight, modify the center fuselage in accordance with Airbus Service Bulletin A320-53-1027, Revision 2, dated June 8, 1995. Accomplishment of the modification constitutes terminating action for the repetitive inspection requirements of paragraph (a)(2)(i)(A) of this AD.

(ii) If any crack is detected and it is less than 1.9 mm in length, prior to further flight, accomplish the applicable corrective actions specified in the service bulletin. For holes that have not been modified in accordance with the service bulletin, repeat the rotating probe inspection thereafter at intervals not to exceed 12,000 landings.

(iii) If any crack is detected and it is 1.9 mm or greater in length, prior to further flight, repair it in accordance with a method approved by the Manager, International Branch, ANM-116, FAA, Transport Airplane Directorate.

Note 1: Accomplishment of the replacement/modification in accordance with Airbus Service Bulletin A320-53-1027, dated March 1, 1994; or Revision 1, dated September 5, 1994, prior to the effective date of this AD, is considered acceptable for compliance with the applicable action specified in this AD.

New Requirements of This AD

Detailed and Rotating Probe Inspections

(b) For airplanes on which the modification specified in AD 98-12-18 has not been done: Do the applicable inspections specified in paragraphs (b)(1) and (b)(2) of this AD, in accordance with the Accomplishment Instructions of Airbus Service Bulletin A320-53-1028, Revision 01, dated February 12, 2002.

(1) For airplanes on which the inspections required by AD 98-12-18 have been done: Within 12,000 flight cycles after accomplishment of the last inspection required by paragraphs (a)(1)(i)(A) and (a)(2)(i)(A) of this AD, as applicable; do a detailed inspection of the transition angle and a rotating probe inspection of the pick-up angle in the lower part of the center fuselage area for cracking.

(2) For airplanes on which the inspections required by AD 98-12-18 have not been done: At the later of the times specified in paragraph (b)(2)(i) or (b)(2)(ii) of this AD; do a detailed inspection of the transition angle and a rotating probe inspection of the pick-up angle in the lower part of the center fuselage area for cracking.

(i) Before the accumulation of 10,400 total flight cycles, or 24,600 total flight hours, whichever is first.

(ii) Before the accumulation of 16,000 total flight cycles, or within 3,500 flight cycles after the effective date of this AD, whichever is first.

Repetitive Inspections

(c) Repeat the detailed and rotating probe inspections specified in paragraphs (b)(1) and (b)(2) of this AD at intervals not to exceed 10,400 flight cycles or 24,600 flight hours, whichever is first, until the modification specified in paragraph (e) of this AD has been done.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Corrective Action

(d) If any cracking is found during any inspection required by paragraph (b) or (c) of this AD: Prior to further flight, either repair the cracking per the Accomplishment Instructions of Airbus Service Bulletin A320-53-1028, Revision 01, dated February 12, 2002; or do the modification specified in paragraph (e) of this AD. Where the service bulletin specifies to contact the manufacturer for repair instructions, prior to further flight, repair the cracking in accordance with a method approved by the Manager, International Branch, ANM-116; or the Direction Générale de l'Aviation Civile (or its delegated agent). If the cracking is repaired, repeat the inspections as required by paragraph (c) of this AD.

Modification

(e) Modification of the transition and pick-up angles in the lower part of the center fuselage in accordance with paragraphs 3.A. through 3.D. of the Accomplishment Instructions of Airbus Service Bulletin A320-53-1027, Revision 03, dated February 12, 2002, ends the repetitive inspections required by this AD.

Alternative Methods of Compliance

(f) In accordance with 14 CFR 39.19, the Manager, International Branch, ANM-116, is authorized to approve alternative methods of compliance for this AD.

Incorporation by Reference

(g) Unless otherwise specified in this AD, the actions shall be done in accordance with Airbus Service Bulletin A320-53-1027, Revision 2, dated June 8, 1995; Airbus Service Bulletin A320-53-1027, Revision 03, dated February 12, 2002; Airbus Service Bulletin A320-53-1028, dated March 1, 1994; and Airbus Service Bulletin A320-53-1028, Revision 01, dated February 12, 2002; as applicable.

(1) The incorporation by reference of Airbus Service Bulletin A320-53-1027, Revision 03, dated February 12, 2002; and Airbus Service Bulletin A320-53-1028, Revision 01, dated February 12, 2002; is approved by the Director of the Federal Register in accordance with 5 U.S.C. 552(a) and 1 CFR part 51.

(2) The incorporation by reference of Airbus Service Bulletin A320-53-1027, Revision 2, dated June 8, 1995; and Airbus Service Bulletin A320-53-1028, dated March 1, 1994; was approved previously by the Director of the Federal Register as of July 14, 1998 (63 FR 31345, June 9, 1998).

(3) Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2002-183(B), dated April 3, 2002.

Effective Date

(h) This amendment becomes effective on March 15, 2004.

Issued in Renton, Washington, on January 30, 2004.
Kalene C. Yanamura,
Acting Manager, Transport Airplane Directorate, Aircraft Certification Service.

[FR Doc. 04-2582 Filed 2-6-04; 8:45 am]

BILLING CODE 4910-13-P